DEPARTMENT OF COMMERCE

Bureau of Economic Analysis

Proposed Information Collection; Comment Request; Services Surveys: BE-29, Annual Survey of Foreign Ocean Carriers' Expenses in the United States

AGENCY: Bureau of Economic Analysis, Department of Commerce.

ACTION: Notice.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before November 2, 2015.

ADDRESSES: Direct all written comments to Jennifer Jessup, Departmental Paperwork Clearance Officer, Department of Commerce, Room 6616, 14th and Constitution Avenue NW., Washington, DC 20230, or via email at jjessup@doc.gov.

FOR FURTHER INFORMATION CONTACT: Requests for additional information or copies of the information collection instrument and instructions should be directed to Christopher Stein, Chief, Services Surveys Branch (SSB) BE-50, Bureau of Economic Analysis, U.S. Department of Commerce, Washington, DC 20230; phone: (202) 606-9850; fax: (202) 606-5318; email: christopher.stein@bea.gov.

SUPPLEMENTARY INFORMATION:

I. Abstract

The Annual Survey of Foreign Ocean Carriers' Expenses in the United States (BE-29) is a survey that collects data from U.S. agents of foreign ocean carriers who handle 40 or more port calls in the reporting period by foreign ocean vessels, or have total annual covered expenses of $250,000 or more for all foreign ocean vessels handled by the U.S. agent. The covered expenses are: (1) Port call services such as pilotage, towing and tugboat services, harbor fees, and berth fees; (2) cargo-related services such as loading, unloading, and storing cargo at U.S. ports; (3) fuels and oils (bunkers) purchased in U.S. ports; (4) other vessel operating expenses such as stores and supplies, vessel repairs, and personnel expenses in the United States; and (5) other expenses such as U.S. agents' and brokers' fees and commissions and expenses related to maintaining U.S. offices, such as rent, advertising, and wages.

The data collected on the survey are needed to monitor U.S. trade in transport services to analyze the impact of U.S. trade on the U.S. and foreign economies, to compile and improve the U.S. economic accounts, to support U.S. commercial policy on trade in transport services, to conduct trade promotion, and to improve the ability of U.S. businesses to identify and evaluate market opportunities. The data are used in estimating the transport component of the U.S. international transactions accounts (ITAs) and national income and product accounts (NIPAs). The Bureau of Economic Analysis (BEA) is proposing no additions, modifications, or deletions to the current BE-29 survey to minimize respondent burden while considering the needs of data users. Existing language in the instructions and definitions will be reviewed and adjusted as necessary to clarify survey requirements.

II. Method of Collection

Form BE-29 is an annual report that must be completed within 90 days after the end of each calendar year. BEA contacts potential respondents by mail in January of each year. Entities required to report will be contacted individually by BEA. Entities not contacted by BEA have no reporting responsibilities.

BEA offers electronic filing through its eFile system for use in reporting on the BE-29 annual survey form. For information about eFile, go to www.bea.gov/efile. In addition, BEA posts all its survey forms and reporting instructions on its Web site, www.bea.gov/ssb. These may be downloaded, completed, printed, and submitted via fax or mail.

III. Data

OMB Control Number: 0608-0012.

Form Number: BE-29.

Type of Review: Regular submission.

Affected Public: Business or other for-profit organizations.

Estimated Number of Responses: 83 annually (69 reporting mandatory data and 14 file exemption claims).

Estimated Time per Response: 3 hours is the average for those reporting data. 1 hour is the average for those not reporting data. Hours may vary considerably among respondents because of differences in company size and complexity.

Estimated Total Annual Burden Hours: 221.

Estimated Total Annual Cost to Public: $0.

Respondent's Obligation: Mandatory.

Legal Authority: International Investment and Trade in Services Survey Act (Pub. L. 94-472, 22 U.S.C. 3101-3108, as amended).

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 28, 2015.
Glenna Mickelson,
Management Analyst, Office of Chief Information Officer.

[FR Doc. 2015-21878 Filed 9-2-15; 8:45 am]

BILLING CODE 3510-06-P